DEPARTMENT OF HOMELAND SECURITY

8 CFR Part 214

[CIS No. 2764-24]

RIN 1615-AC89

Exercise of Time-Limited Authority To Increase the Numerical Limitation for FY 2024 for the H-2B Temporary Nonagricultural Worker Program and Portability Flexibility for H-2B Workers Seeking To Change Employers; Correction

AGENCY: U.S. Citizenship and Immigration Services (USCIS), Department of Homeland Security (DHS), and Employment and Training Administration and Wage and Hour Division, U.S. Department of Labor (DOL).

ACTION: Temporary rule; correction and correcting amendment.

SUMMARY: On November 17, 2023, the Department of Homeland Security and Department of Labor jointly published a temporary rule titled “Exercise of Time-Limited Authority to Increase the Numerical Limitation for FY 2024 for the H-2B Temporary Nonagricultural Worker Program and Portability Flexibility for H-2B Workers Seeking To Change Employers.” The temporary rule contains errors that this document corrects.

DATES: Effective November 20, 2023, and applicable beginning November 17, 2023.

FOR FURTHER INFORMATION CONTACT: Charles L. Nimick, Chief, Business and Foreign Workers Division, Office of Policy and Strategy, U.S. Citizenship and Immigration Services, Department of Homeland Security, 5900 Capital Gateway Drive, Camp Springs, MD 20746; telephone 240-721-3000 (this is not a toll-free number).

SUPPLEMENTARY INFORMATION: This document corrects two errors contained in the Exercise of Time-Limited Authority to Increase the Numerical Limitation for FY 2024 for the H-2B Temporary Nonagricultural Worker Program and Portability Flexibility for H-2B Workers Seeking To Change Employers temporary final rule published at 88 FR 80394 (Nov. 17, 2023). Specifically, it corrects two incorrect citations published on p. 80457 in 8 CFR 214.2(h)(6)(xiv)(C)(1) by removing each instance of “(h)(6)(xiv)(A)(1)(a)” and replacing it each with “(h)(6)(xiv)(A)(1)(i)”.

List of Subject in 8 CFR Part 214

Administrative practice and procedure, Aliens, Cultural exchange program, Employment, Foreign officials, Health professions, Reporting and recordkeeping requirements, Students.

Accordingly, 8 CFR part 214 is corrected by making the following correcting amendment:

PART 214—NONIMMIGRANT CLASSES

1. The authority citation for part 214 continues to read as follows:

Authority: 6 U.S.C. 202, 236; 8 U.S.C. 1101, 1102, 1103, 1182, 1184, 1186a, 1187, 1221, 1281, 1282, 1301-1305, 1357, and 1372; sec. 643, Pub. L. 104-208, 110 Stat. 3009-708; Pub. L. 106-386, 114 Stat. 1477-1480; section 141 of the Compacts of Free Association with the Federated States of Micronesia and the Republic of the Marshall Islands, and with the Government of Palau, 48 U.S.C. 1901 note and 1931 note, respectively; 48 U.S.C. 1806; 8 CFR part 2; Pub. L. 115-218, 132 Stat. 1547 (48 U.S.C. 1806).

2. In 214.2, revise the paragraph (h)(6)(xiv)(C)(1) heading and introductory text to read as follows:

§ 214.2 Special requirements for admission, extension, and maintenance of status.

* * * * *

(h) * * *

(6) * * *

(xiv) * * *

(C) * * *

(1) Petitions filed pursuant to paragraph (h)(6)(xiv)(A)(1)(i) requesting FY 2024 employment start dates on or before March 31, 2024. USCIS will reject petitions filed pursuant to paragraph (h)(6)(xiv)(A)(1)(i) of this section requesting employment start dates on or before March 31, 2024 that are received after the applicable numerical limitation has been reached or after September 16, 2024.

* * * * *

Christina E. McDonald,
Federal Register Liaison, U.S. Department of Homeland Security.

[FR Doc. 2023-25951 Filed 11-20-23; 4:15 pm]

BILLING CODE 9111-97-P